DEPARTMENT OF AGRICULTURE

Forest Service

36 CFR Part 242

Subsistence Management Regulations for Public Lands in Alaska

CFR Correction

In Title 36 of the Code of Federal Regulations, parts 200 to 299, revised as of July 1, 2000, on page 213, § 242.24 is corrected by adding paragraph (a) introductory text, revising paragraph (a)(2) and adding paragraph (a)(3) to read as follows:

§ 242.24 Customary and traditional use determinations.

(a) The Federal Subsistence Board has determined that rural Alaska residents of the listed communities, areas, and individuals have customary and traditional use of the specified species on Federal public land in the specified areas. Persons granted individual customary and traditional use determinations will be notified in writing by the Board. The Fish and Wildlife Service and the local NPS Superintendent will maintain the list of individuals having customary and traditional use on National Parks and Monuments. A copy of the list is available upon request. When there is a determination for specific communities or areas of residence in a Unit, all other communities not listed for that species in that Unit have no Federal subsistence for that species in that Unit. If no determination has been made for a species in a Unit, all rural Alaska residents are eligible to harvest fish or wildlife under this part.

* * * * *

(2) Fish determinations.

Area | Species | Determination
KOTZEBUE AREA | All fish | Residents of the Kotzebue Area.
NORTON SOUND—PORT CLARENCE AREA | All fish | Residents of the Norton Sound-Port Clarence Area.
YUKON-NORTHERN AREA:
Yukon River drainage | Salmon, other than Yukon River Fall Chum salmon | Residents of the Yukon Area, including the community of Stebbins.
Yukon River drainage | Yukon River Fall chum salmon | Residents of the Yukon River drainage, including the communities of Stebbins, Scammon Bay, Hooper Bay, and Chevak.
Yukon River drainage | Freshwater fish species (other than salmon), including sheefish, whitefish, lamprey, burbot, sucker, grayling, pike, char, and blackfish | Residents of the Yukon-Northern Area.
Remainder | All fish | Residents of the Northern Area, except for those domiciled in Unit 26-B.
KUSKOKWIM AREA | Salmon | Residents of the Kuskokwim Area, except those persons residing on the United States military installation located on Cape Newenham, Sparevohn USAFB, and Tatalina USAFB.
| Rainbow trout | Residents of the communities of Quinhagak, Goodnews Bay, Kwethluk, Eek, Akiachak, Akiak, and Platinum.
| Pacific cod | Residents of the communities of Chevak, Newtok, Tununak, Toksook Bay, Nightmute, Chefornak, Kipnuk, Mekoryuk, Kwigillingok, Kongiganak, Eek, and Tuntutuliak.
| All other fish other than herring | Residents of the Kuskokwim Area.
Waters around Nunivak Island | Herring and herring roe | Residents within 20 miles of the coast between the westernmost tip of the Naskonant Peninsula and the terminus of the Ishowik River and on Nunivak Island.
BRISTOL BAY AREA:
Nushagak District, including drainages flowing into the district | Salmon and other freshwater fish | Residents of the Nushagak District and freshwater drainages flowing into the district.
Naknek-Kvichak District—Naknek River drainage | Salmon and other freshwater fish | Residents of the Naknek and Kvichak River drainages.
Naknek-Kvichak District—Iliamna-Lake Clark drainage | Salmon and other freshwater fish | Residents of the Iliamna-Lake Clark drainage.
Togiak District, including drainages flowing into the district | Salmon and other freshwater fish | Residents of the Togiak District, freshwater drainages flowing into the district, and the community of Manokotak.
Togiak District | Herring spawn on kelp | Residents of the Togiak District.
Remainder | All fish | Residents of the Bristol Bay Area.
ALEUTIAN ISLANDS AREA | All fish | Residents of the Aleutian Islands Area and the Pribilof Islands.
ALASKA PENINSULA AREA | Halibut | Residents of the Alaska Peninsula Area and the communities of Ivanof Bay and Perryville.
| All other fish in the Alaska Peninsula Area | Residents of the Alaska Peninsula Area.
CHIGNIK AREA | Halibut, salmon and fish other than steelhead and rainbow trout | Residents of the Chignik Area.
KODIAK AREA—except the Mainland District, all waters along the south side of the Alaska Peninsula bounded by the latitude of Cape Douglas (58°52′ North latitude) mid-stream Shelikof Strait, and east of the longitude of the southern entrance of Imuya Bay near Kilokak Rocks (57°11′22″ North latitude, 156°20′30″ W longitude) | Salmon | Residents of the Kodiak Island Borough, except those residing on the Kodiak Coast Guard Base.
Kodiak Area | Fish other than steelhead and rainbow trout and salmon | Residents of the Kodiak Area.
COOK INLET AREA | Fish other than salmon, Dolly Varden, trout, char, grayling, and burbot | Residents of the Cook Inlet Area.
PRINCE WILLIAM SOUND AREA:
South-Western District and Green Island | Salmon | Residents of the Southwestern District which is mainland waters from the outer point on the north shore of Granite Bay to Cape Fairfield, and Knight Island, Chenega Island, Bainbridge Island, Evans Island, Elrington Island, Latouche Island and adjacent islands.
North of a line from Porcupine Point to Granite Point, and south of a line from Point Lowe to Tongue Point | Salmon | Residents of the villages of Tatitlek and Ellamar.
Glennallen Subdistrict of the Upper Copper River District and the waters of the Copper River | Salmon | Residents of the Prince William Sound Area.
Copper River District—remainder | Salmon | Residents of the Prince William Sound Area.
YAKUTAT AREA:
Freshwater upstream from the terminus of streams and rivers of the Yakutat Area from the Doame River to the Tsiu River | Salmon | Residents of the area east of Yakutat Bay, including the islands within Yakutat Bay, west of the Situk River drainage, and south of and including Knight Island.
Freshwater upstream from the terminus of streams and rivers of the Yakutat Area from the Doame River to Point Manby | Dolly Varden, steelhead trout, and smelt | Residents of the area east of Yakutat Bay, including the islands within Yakutat Bay, west of the Situk River drainage, and south of and including Knight Island.
SOUTHEASTERN ALASKA AREA:
District 1—Section 1-E in waters of the Naha River and Roosevelt Lagoon | Salmon, Dolly Varden, trout, smelt and eulachon | Residents of the City of Saxman.
District 1—Section 1-F in Boca de Quadra in waters of Sockeye Creek and Hugh Smith Lake within 500 yards of the terminus of Sockeye Creek | Salmon, Dolly Varden, trout, smelt and eulachon | Residents of the City of Saxman.
District 2—North of the latitude of the northern-most tip of Chasina Point and west of a line from the northern-most tip of Chasina Point to the eastern-most tip of Grindall Island to the eastern-most tip of the Kasaan Peninsula | Salmon, Dolly Varden, trout, smelt and eulachon | Residents of the City of Kasaan and in the drainage of the southeastern shore of the Kasaan Peninsula west of 132° 20′ W. long. and east of 132° 25′ W. long.
District 3—Section 3-A | Salmon, Dolly Varden, trout, smelt and eulachon | Residents of the townsite of Hydaburg.
District 3—Section A | Halibut and bottomfish | Residents of Southeast Area.
District 3—Section 3-B in waters east of a line from Point Ildefonso to Tranquil Point | Salmon, Dolly Varden, trout, smelt and eulachon | Residents of the City of Klawock and on Prince of Wales Island within the boundaries of the Klawock Heenya Corporation land holdings as they exist in January 1989, and those residents of the City of Craig and on Prince of Wales Island within the boundaries of the Shan Seet Corporation land holdings as they exist in January 1989.
District 3—Section 3-C in waters of Sarkar Lakes | Salmon, Dolly Varden, trout, smelt and eulachon | Residents of the City of Klawock and on Prince of Wales Island within the boundaries of the Klawock Heenya Corporation land holdings as they exist in January 1989, and those residents of the City of Craig and on Prince of Wales Island within the boundaries of the Shan Seet Corporation land holdings as they exist in January 1989.
District 5—North of a line from Point Barrie to Boulder Point | Salmon, Dolly Varden, trout, smelt and eulachon | Residents of the City of Kake and in Kupreanof Island drainages emptying into Keku Strait south of Point White and north of the Portage Bay boat harbor.
District 9—Section 9-A | Salmon, Dolly Varden, trout, smelt and eulachon | Residents of the City of Kake and in Kupreanof Island drainages emptying into Keku Strait south of Point White and north of the Portage Bay boat harbor.
District 9—Section 9-B north of the latitude of Swain Point | Salmon, Dolly Varden, trout, smelt and eulachon | Residents of the City of Kake and in Kupreanof Island drainages emptying into Keku Strait south of Point White and north of the Portage Bay boat harbor.
District 10—West of a line from Pinta Point to False Point Pybus | Salmon, Dolly Varden, trout, smelt and eulachon | Residents of the City of Kake and in Kupreanof Island drainages emptying into Keku Strait south of Point White and north of the Portage Bay boat harbor.
District 12—South of a line from Fishery Point to south Passage Point and north of the latitude of Point Caution | Salmon, Dolly Varden, trout, smelt and eulachon | Residents of the City of Angoon and along the western shore of Admiralty Island north of the latitude of Sand Island, south of the latitude of Thayer Creek, and west of 134°30′ W. long., including Killisnoo Island.
District 13—Section 13-A south of the latitude of Cape Edward | Salmon, Dolly Varden, trout, smelt and eulachon | Residents of the City and Borough of Sitka in drainages which empty into Section 13-B north of the latitude of Dorothy Narrows.
District 13—Section 13-B north of the latitude of Redfish Cape | Salmon, Dolly Varden, trout, smelt and eulachon | Residents of the City and Borough of Sitka in drainages which empty into Section 13-B north of the latitude of Dorothy Narrows.
District 13—Section 13-C | Salmon, Dolly Varden, trout, smelt and eulachon | Residents of the City and Borough of Sitka in drainages which empty into Section 13-B north of the latitude of Dorothy Narrows.
District 13—Section 13-C east of the longitude of Point Elizabeth | Salmon, Dolly Varden, trout, smelt and eulachon | Residents of the City of Angoon and along the western shore of Admiralty Island north of the latitude of Sand Island, south of the latitude of Thayer Creek, and west of 134°30′ W. long., including Killisnoo Island.
District 14—Section 14-B and 14-C | Salmon, Dolly Varden, trout, smelt and eulachon | Residents of the City of Hoonah and in Chichagof Island drainages on the eastern shore of Port Frederick from Gartina Creek to Point Sophia.

(3) Shellfish determinations.

Area | Species | Determination
BERING SEA AREA | All shellfish | Residents of the Bering Sea Area.
ALASKA PENINSULA-ALEUTIAN ISLANDS AREA | Shrimp, Dungeness, king, and Tanner crab | Residents of the Alaska Peninsula-Aleutian Islands Area.
KODIAK AREA | Shrimp, Dungeness, and Tanner crab | Residents of the Kodiak Area.
Kodiak Area, except for the Semidi Island, the North Mainland, and the South Mainland Sections | King crab | Residents of the Kodiak Island Borough except those residents on the Kodiak Coast Guard base.
PRINCE WILLIAM SOUND AREA | Shrimp, clams, Dungeness, king, and Tanner crab | Residents of the Prince William Sound Area.
SOUTHEASTERN ALASKA—YAKUTAT AREA:
Section 1 E south of the latitude of Grant Island light | Shellfish, except shrimp, king crab, and Tanner crab | Residents of the Southeast Area.
Section 1 F north of the latitude of the northernmost tip of Mary Island, except waters of Boca de Quadra | Shellfish, except shrimp, king crab, and Tanner crab | Residents of the Southeast Area.
Section 3 A and 3 B | Shellfish, except shrimp, king crab, and Tanner crab | Residents of the Southeast Area.
District 13 | Dungeness crab, shrimp, abalone, sea cucumbers, gum boots, cockles, and clams, except geoducks | Residents of the Southeast Area.

[FR Doc. 01-55501 Filed 2-15-01; 8:45 am]

BILLING CODE 1505-01-D